NUCLEAR REGULATORY COMMISSION

[Docket Nos. 50-247 and 50-286; NRC-2008-0672]

Entergy Nuclear Operations, Inc.; Indian Point Nuclear Generating, Units 2 and 3

AGENCY: Nuclear Regulatory Commission.

ACTION: Draft supplement to Supplement 38 to the generic environmental impact statement for license renewal of nuclear plants; availability.

SUMMARY: The U.S. Nuclear Regulatory Commission (NRC or the Commission) is issuing for public comment a draft supplement to Supplement 38 to the Generic Environmental Impact Statement for License Renewal of Nuclear Plants (GEIS), NUREG-1437, regarding the renewal of operating licenses DPR-26 and DPR-64 for an additional 20 years of operation for Indian Point Nuclear Generating Units 2 and 3 (IP2 and IP3). IP2 and IP3 are located in Westchester County in the Village of Buchanan, New York, approximately 24 miles north of New York City.

DATES: Submit comments by August 20, 2012. Comments received after this date will be considered if it is practical to do so, but the NRC staff is able to ensure consideration only for comments received on or before this date.

ADDRESSES: You may access information and comment submissions related to this document, which the NRC possesses and is publically available, by searching on http://www.regulations.gov under Docket ID NRC-2008-0672. You may submit comments by any of the following methods:

• Federal Rulemaking Web site: Go to http://www.regulations.gov and search for Docket ID NRC-2008-0672. Address questions about NRC dockets to Carol Gallagher; telephone: 301-492-3668; email: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at 301-492-3446.

For additional direction on accessing information and submitting comments, see “Accessing Information and Submitting Comments” in the SUPPLEMENTARY INFORMATION section of this document.

FOR FURTHER INFORMATION CONTACT: Mr. Michael Wentzel, Division of License Renewal, Office of Nuclear Reactor Regulation, U.S. Nuclear Regulatory Commission, Washington, DC 20555-0001; telephone: 301-415-6459 or by email at: Michael.Wentzel@nrc.gov.

SUPPLEMENTARY INFORMATION:

I. Accessing Information and Submitting Comments

A. Accessing Information

Please refer to Docket ID NRC-2008-0672 when contacting the NRC about the availability of information regarding this document. You may access information related to this document by any of the following methods:

• Federal Rulemaking Web site: Go to http://www.regulations.gov and search for Docket ID NRC-2008-0672.

• NRC's Agencywide Documents Access and Management System (ADAMS): You may access publicly-available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced. The draft supplement to Supplement 38 is available under ADAMS Accession No. ML12174A244.

• NRC's PDR: You may examine and purchase copies of public documents at the NRC's PDR, Room O1-F21, One White Flint North, 11555 Rockville Pike, Rockville, Maryland 20852.

• NRC's Web page: Documents related to this notice are available on the NRC's Plant Application for License Renewal Web site at http://www.nrc.gov/reactors/operating/licensing/renewal/applications/indian-point.html. The draft supplement to Supplement 38 for the IP2 and IP3 license renewal application may also be accessed on the internet at http://www.nrc.gov/reading-rm/doc-collections/nuregs/staff/sr1437/ by selecting “Supplement 38.”

• Local Library: A copy of the draft supplement to Supplement 38 to the GEIS will be available to local residents near the site at the White Plains Public Library located at 100 Martine Avenue, White Plains, NY 10601, at the Hendrick Hudson Free Library located at 185 Kings Ferry Road, Montrose, NY 10548, and at the Field Library located at 4 Neslon Avenue, Peekskill, NY 10566.

B. Submitting Comments

Please include Docket ID NRC-2008-0672 in the subject line of your comment submission, in order to ensure that the NRC is able to make your comment submission available to the public in this docket.

The NRC cautions you not to include identifying or contact information in comment submissions that you do not want to be publicly disclosed. The NRC posts all comment submissions at http://www.regulations.gov as well as entering the comment submissions into ADAMS, and the NRC does not edit comment submissions to remove identifying or contact information.

If you are requesting or aggregating comments from other persons for submission to the NRC, then you should inform those persons not to include identifying or contact information in their comment submissions that they do not want to be publicly disclosed. Your request should state that the NRC will not edit comment submissions to remove such information before making the comment submissions available to the public or entering the comment submissions into ADAMS.

II. Background

The NRC received an application, by letter dated April 23, 2007, from Entergy Nuclear Operations, Inc. (Entergy), to renew the operating licenses for IP2 and IP3 for an additional 20 years. In support of the application and in accordance with Title 10 of the Code of Federal Regulations (10 CFR) Parts 51 and 54, Entergy also submitted an environmental report for IP2 and IP3. In December 2010, the NRC staff issued its final plant-specific Supplement 38 to NUREG-1437, “Generic Environmental Impact Statement for License Renewal of Nuclear Plants (GEIS)” (final SEIS), regarding the renewal of operating licenses DPR-26 and DPR-64 for an additional 20 years of operation for IP2 and IP3.

Pursuant to 10 CFR 51.92(a)(2), if a proposed action has not been taken, the NRC is to prepare a supplement to a final environmental impact statement (EIS) for which a notice of availability has been published in the Federal Register as provided in § 51.118, if there are new and significant circumstances or information relevant to environmental concerns and bearing on the proposed action or its impacts. In addition, pursuant to 10 CFR 51.92(c), the NRC staff may prepare a supplement to a final EIS when, in the opinion, preparation of a supplement will further the purpose of the National Environmental Policy Act of 1969 (NEPA).

Subsequent to the issuance of the final SEIS, the NRC staff identified certain new information regarding aquatic impacts that necessitated changes to the staff's findings in the final SEIS. Therefore, the NRC staff has prepared a draft supplement to Supplement 38 to the Generic Environmental Impact Statement for License Renewal of Nuclear Plants.

Dated at Rockville, Maryland, this 26th day of June 2012.
For the Nuclear Regulatory Commission.
David J. Wrona,
Chief, Projects Branch 2, Division of License Renewal, Office of Nuclear Reactor Regulation.

[FR Doc. 2012-16548 Filed 7-5-12; 8:45 am]

BILLING CODE 7590-01-P